Title 3—

The President

Proclamation 9826 of November 16, 2018

National Family Week, 2018

By the President of the United States of America

A Proclamation

During National Family Week, we celebrate the immeasurable contributions, influence, and virtues of one of the greatest institutions—the family. Whether related by biology, marriage, or adoption, the family is a primary source of unconditional love and steadfast support. Strong families multiply joy, share challenges, and provide firm foundations for each member's growth and success in life. Families are central to learning values, and they enrich our neighborhoods, communities, and Nation.

My Administration is focused on creating an environment in which families can thrive. The Tax Cuts and Jobs Act has produced larger paychecks for workers, who are now keeping more of their hard-earned income. Due to this historic legislation and the elimination of unnecessary and burdensome regulations, the unemployment rate dropped to its lowest point in nearly 50 years last month, and more Americans are working today than ever before in our history. We have fought for and implemented more family-friendly policies like doubling the child tax credit and making it available to low-income working families; creating the dependent tax credit for taxpayers with children over the age of 16 and non-child dependents; and establishing an employer tax credit for paid family and medical leave. I also created, by Executive Order, the first ever National Council for the American Worker, to enhance Americans' access to the skills and support necessary to secure and retain a good paying job. In both of my budgets, I have also requested congressional funding for a national paid family leave program. All of these reforms are giving much-needed financial relief to hardworking parents. When Americans have greater opportunities to work and provide for their families, our Nation is stronger and more prosperous.

Every family, regardless of its social status or background, faces its own challenges. Tragically, many American family members are in the midst of a heart-wrenching and difficult battle against drug addiction. For this reason, I have tasked my Administration with strengthening our public health and safety response to the arising crisis of opioid and other drug addiction. In February, I secured $6 billion in new funding for combating the opioid epidemic. In March, I released my Administration's plan to address the epidemic by reducing drug demand, cutting off the flow of illicit drugs, expanding access to overdose prevention and evidence-based treatment for opioid use disorder, and conducting research to improve prevention and treatment. And, last month, I signed the historic SUPPORT Act, which will reduce the length of time children spend in foster care due to a parent who is struggling with a substance use disorder. We will continue to remain firm in our commitment to provide help to families devastated by opioid addiction.

This week, we recognize in a special way that American families are integral to building and sustaining our great Nation, and we thank God for this precious gift. We must encourage and support the success of our families so that they can create loving and nurturing homes for all our children.

NOW, THEREFORE, I, DONALD J. TRUMP, President of the United States of America, by virtue of the authority vested in me by the Constitution and the laws of the United States, do hereby proclaim November 18 through November 24, 2018, as National Family Week. I invite communities, churches, and individuals to observe this week with appropriate ceremonies and activities to honor our Nation's families.

IN WITNESS WHEREOF, I have hereunto set my hand this sixteenth day of November, in the year of our Lord two thousand eighteen, and of the Independence of the United States of America the two hundred and forty-third.

[FR Doc. 2018-25766

Filed 11-21-18; 11:15 am]

Billing code 3295-F9-P